DEPARTMENT OF AGRICULTURE

Forest Service

Lassen National Forest, CA, Creeks Forest Health Recovery Project

AGENCY: Forest Service, USDA.

ACTION: Cancellation of Notice of Intent.

SUMMARY: This notice cancels the Notice of Intent to prepare a Supplement to the Environmental Impact Statement for the Creeks Forest Health Recovery Project on the Lassen National Forest, published in the Federal Register on December 7, 2006, (Volume 71, Number 235, page 70946).

ADDRESSES: Almanor District Ranger, Lassen National Forest, P.O. Box 767, Chester, CA 96020.

FOR FURTHER INFORMATION CONTACT: Rick Atwell, Interdisciplinary Team Leader, may be contacted by phone at (530) 258-2141.

SUPPLEMENTARY INFORMATION: A Notice of Intent to prepare a Supplement to the Environmental Impact Statement for the Creeks Forest Health Recovery Project is cancelled due to additional information related to the California spotted owl analysis, conducted in concert with Pacific Southwest Research Station, for the Creeks project area.

Dated: June 8, 2007.
Elizabeth Norton,
Acting Forest Supervisor.

[FR Doc. 07-2935 Filed 6-13-07; 8:45 am]

BILLING CODE 3410-11-M